DEPARTMENT OF ENERGY

Federal Energy Regulatory Commission

Combined Notice of Filings #1

Take notice that the Commission received the following electric corporate filings:

Docket Numbers: EC19-86-000.

Applicants: Kendall Green Energy LLC.

Description: Application for Authorization Under Section 203 of the Federal Power Act, et al. of Kendall Green Energy LLC.

Filed Date: 5/6/19.

Accession Number: 20190506-5149.

Comments Due: 5 p.m. ET 5/28/19.

Take notice that the Commission received the following electric rate filings:

Docket Numbers: ER10-2564-009; ER10-2600-009; ER10-2289-009; EL19-44-000.

Applicants: Tucson Electric Power Company, UNS Electric, Inc., UniSource Energy Development Company.

Description: Response to March 8, 2019 Order to Show Cause of Tucson Electric Power Company, UNS Electric, Inc., and UniSource Energy Development Company.

Filed Date: 5/6/19.

Accession Number: 20190506-5160.

Comments Due: 5 p.m. ET 5/28/19.

Docket Numbers: ER19-1425-001.

Applicants: Midcontinent Independent System Operator, Inc.

Description: Tariff Amendment: 2019-05-06_SA 3284 Hankinson Wahpeton 230 kV Line Sub MPFCA to be effective 3/26/2019.

Filed Date: 5/6/19.

Accession Number: 20190506-5117.

Comments Due: 5 p.m. ET 5/16/19.

Docket Numbers: ER19-1429-001.

Applicants: Midcontinent Independent System Operator, Inc.

Description: Tariff Amendment: 2019-05-07_SA 3285 Big Stone Terminal Upgrade Sub MPFCA (J488 J493 J526) to be effective 3/26/2019.

Filed Date: 5/7/19.

Accession Number: 20190507-5065.

Comments Due: 5 p.m. ET 5/17/19.

Docket Numbers: ER19-1432-001.

Applicants: Midcontinent Independent System Operator, Inc.

Description: Tariff Amendment: 2019-05-07_SA 3286 Blair Terminal Equip and Disconnects Sub MPFCA to be effective 3/26/2019.

Filed Date: 5/7/19.

Accession Number: 20190507-5082.

Comments Due: 5 p.m. ET 5/17/19.

Docket Numbers: ER19-1790-000.

Applicants: El Paso Electric Company.

Description: § 205(d) Rate Filing: Service Agreement No. 316, EPE LGIA with Great Divide Wind Farm to be effective 7/6/2019.

Filed Date: 5/6/19.

Accession Number: 20190506-5121.

Comments Due: 5 p.m. ET 5/28/19.

Docket Numbers: ER19-1791-000.

Applicants: Riverhead Solar Farm, LLC.

Description: Compliance filing: Riverhead MBR Change in Status to be effective 8/29/2018.

Filed Date: 5/6/19.

Accession Number: 20190506-5122.

Comments Due: 5 p.m. ET 5/28/19.

Docket Numbers: ER19-1792-000.

Applicants: Frontier Utilities Northeast LLC.

Description: Compliance filing: Frontier Utilities Northeast LLC Notification of Change in Status to be effective 5/7/2019.

Filed Date: 5/7/19.

Accession Number: 20190507-5000.

Comments Due: 5 p.m. ET 5/28/19.

Docket Numbers: ER19-1793-000.

Applicants: Valcour Altona Windpark, LLC.

Description: § 205(d) Rate Filing: Notice of Succession & Clarification of Category Seller Status to be effective5/8/2019.

Filed Date: 5/7/19.

Accession Number: 20190507-5092.

Comments Due: 5 p.m. ET 5/28/19.

Docket Numbers: ER19-1794-000.

Applicants: California Independent System Operator Corporation.

Description: § 205(d) Rate Filing: 2019-05-07 EIM Implementation Agreement—Public Service Company of New Mexico to be effective 7/7/2019.

Filed Date: 5/7/19.

Accession Number: 20190507-5095.

Comments Due: 5 p.m. ET 5/28/19.

Docket Numbers: ER19-1795-000.

Applicants: Valcour Bliss Windpark, LLC.

Description: § 205(d) Rate Filing: Notice of Succession & Clarification of Category Seller Status to be effective5/8/2019.

Filed Date: 5/7/19.

Accession Number: 20190507-5101.

Comments Due: 5 p.m. ET 5/28/19.

Docket Numbers: ER19-1796-000.

Applicants: Valcour Chateaugay Windpark, LLC.

Description: § 205(d) Rate Filing: Notice of Succession & Clarification of Category Seller Status to be effective5/8/2019.

Filed Date: 5/7/19.

Accession Number: 20190507-5102.

Comments Due: 5 p.m. ET 5/28/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 7, 2019.
Nathaniel J. Davis, Sr.,
Deputy Secretary.

[FR Doc. 2019-09773 Filed 5-10-19; 8:45 am]

BILLING CODE 6717-01-P